DEPARTMENT OF LABOR

Employment And Training Administration

[TA-W-56,093]

Hamilton Sundstrand, Grand Junction, CO; Notice of Termination of Investigation

Pursuant to Section 221 of the Trade Act of 1974, as amended, an investigation was initiated on November 26, 2004 in response to a petition filed by a company official on behalf of workers at Hamilton Sundstrand, Grand Junction, Colorado.

The petitioner has requested that the petition be withdrawn. Consequently, the investigation has been terminated.

Signed at Washington, DC this 6th day of December, 2004.
Linda G. Poole,
Certifying Officer, Division of Trade Adjustment Assistance.

[FR Doc. E4-3770 Filed 12-21-04; 8:45 am]

BILLING CODE 4510-30-P